DEPARTMENT OF TRANSPORTATION

Surface Transportation Board

[STB Finance Docket No. 35047]

Wisconsin Central Ltd.—Trackage Rights Exemption—Duluth, Missabe and Iron Range Railway Company

Pursuant to a written trackage rights agreement dated June 4, 2007, Duluth, Missabe and Iron Range Railway Company (DMIR) has agreed to grant overhead trackage rights to Wisconsin Central Ltd. (WC) over a line of railroad between South Itasca, WI (milepost 455.1), and Shelton Junction, MN (milepost 68.4), via Carson, MN, including all industry spurs, connecting tracks and sidings now existent or hereafter constructed along the subject tracks, and right-of-way for the tracks, signals, interlocking devices and plants, telegraph and telephone lines, and other necessary appurtenances, a distance of approximately 80.80 miles, all within the States of Minnesota and Wisconsin.¹

¹ A redacted version of the trackage rights agreement between WC and DMIR was filed with the notice of exemption. The full version of the agreement, as required by 49 CFR 1180.6(a)(7)(ii), was concurrently filed under seal along with a motion for protective order. The request for a protective order is being addressed in a separate decision.

The earliest this transaction may be consummated is July 14, 2007, the effective date of the exemption (30 days after the exemption was filed).

The purpose of the trackage rights is to enhance operational efficiency in the movement of overhead freight movements, reblocking of cars within the same train, and setting out cars requiring servicing between South Itasca and Shelton Junction.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by July 6, 2007 (at least 7 days before the exemption becomes effective).

An original and 10 copies of all pleadings, referring to STB Finance Docket No. 35047, must be filed with the Surface Transportation Board, 395 E Street, SW., Washington, DC 20423-0001. In addition, a copy of each pleading must be served on Thomas J. Healey, 17641 S. Ashland Ave., Homewood, IL 60430.

Board decisions and notices are available on our Web site at http://www.stb.dot.gov.

Decided: June 25, 2007.
By the Board, David M. Konschnik, Director, Office of Proceedings.
Vernon A. Williams,
Secretary.

[FR Doc. E7-12608 Filed 6-28-07; 8:45 am]

BILLING CODE 4915-01-P